DEPARTMENT OF THE INTERIOR

Bureau of Reclamation

Quarterly Status Report of Water Service, Repayment, and Other Water-Related Contract Negotiations

AGENCY: Bureau of Reclamation, Interior.

ACTION: Notice.

SUMMARY: Notice is hereby given of contractual actions that have been proposed to the Bureau of Reclamation (Reclamation) and are new, modified, discontinued, or completed since the last publication of this notice on August 22, 2007. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Sandra L. Simons, Manager, Contract Services Office, Bureau of Reclamation, P.O. Box 25007, Denver, Colorado 80225-0007; telephone 303-445-2902.

SUPPLEMENTARY INFORMATION: Consistent with section 9(f) of the Reclamation Project Act of 1939 and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearing will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to (i) the significance of the modification, and (ii) the degree of public interest which has been expressed over the course of the negotiations. At a minimum, the regional director shall furnish revised contracts to all parties who requested the contract in response to the initial public notice.

Definitions of Abbreviations Frequently Used in This Document

BCP Boulder Canyon Project

Reclamation Bureau of Reclamation

CAP Central Arizona Project

CVP Central Valley Project

CRSP Colorado River Storage Project

FR Federal Register

IDD Irrigation and Drainage District

ID Irrigation District

M&I Municipal and Industrial

NMISC New Mexico Interstate Stream Commission

O&M Operation and Maintenance

P-SMBP Pick-Sloan Missouri Basin Program

PPR Present Perfected Right

RRA Reclamation Reform Act of 1982

SOD Safety of Dams

USACE U.S. Army Corps of Engineers

WD Water District

Pacific Northwest Region: Bureau of Reclamation, 1150 North Curtis Road, Suite 100, Boise, Idaho 83706-1234, telephone 208-378-5344.

Modified contract action:

15. Six irrigation districts of the Arrowrock Division, Boise Project, Idaho: Repayment agreements with districts with spaceholder contracts for repayment, per legislation, of reimbursable share of costs to rehabilitate Arrowrock Dam Outlet Gates under the O&M program. Five letter agreements have been executed.

Discontinued contract action:

7. Trendwest Resorts, Yakima Project, Washington: Long-term water exchange contract for assignment of Teanaway River and Big Creek water rights to Reclamation for instream flow use in exchange for annual use of up to 3,500 acre-feet of water from Cle Elum Reservoir for a proposed resort development.

Mid-Pacific Region: Bureau of Reclamation, 2800 Cottage Way, Sacramento, California 95825-1898, telephone 916-978-5250.

New contract actions:

46. San Luis WD and Meyers Farms Family Trust, CVP, California: Contract for exchange of water among the U.S., San Luis WD, and Meyers Farms Family Trust. The contract will allow for an exchange with Reclamation of previously banked water for a like amount of CVP water made available to San Luis WD on behalf of Meyers Farms.

47. Goleta WD, Cachuma Project, California: Subject to legislation, an agreement to transfer title of the Federally owned distribution system to the district.

48. El Dorado County Water Agency, CVP, California: M&I water service contract to supplement existing water supply: 15,000 acre-feet, under Fazio legislation, for El Dorado County Water Agency authorized by Public Law 101-514. The supply would be split by subcontrators to El Dorado ID and Georgetown Divide Public Utility District.

49. Sacramento Municipal Utility District, CVP, California: Amendment of existing water service contract to allow for additional points of diversion and assignment of up to 30,000 acre-feet of CVP water to the Sacramento County Water Agency. The amended contract will conform to current Reclamation law.

50. El Dorado ID, CVP California: Execution of long-term Warren Act contracts for conveyance of nonproject water (one contract for Weber Reservoir and pre-1914 ‘ditch’ rights in the amount of 4,560 acre-feet, and one contract for Project 184 water in the amount of 17,000 acre-feet). The contracts will allow CVP facilities to be used to deliver nonproject water to El Dorado for use within its service area.

51. Sacramento Area Flood Control Agency, CVP, California: Execution of a long-term operations agreement for flood control operations of Folsom Dam and Reservoir to allow for recovery of costs associated with operating a variable flood control pool of 400,000 to 670,000 acre-feet of water during the flood control season. This agreement is to conform to Federal law.

52. Sacramento Suburban WD, CVP, California: Execution of long-term Warren Act contract for conveyance of nonproject water. The contract will allow CVP facilities to be used to deliver nonproject water provided from the Placer County Water Agency to Sacramento Suburban WD for use within its service area.

53. Placer County Water Agency, CVP, California: Proposed exchange agreement under Section 14 of the 1939 Act of up to 74,000 acre-feet.

Completed contract action:

17. Carpinteria WD, Cachuma Project, California: Contract to transfer title of distribution system to the district. Title transfer authorized by Public Law 108-315 “Carpinteria and Montecito Water Distribution Conveyance Act of 2004.” Contract executed November 7, 2006.

Lower Colorado Region: Bureau of Reclamation, P.O. Box 61470 (Nevada Highway and Park Street), Boulder City, Nevada 89006-1470, telephone 702-293-8192.

New contract action:

34. Mohave County Water Authority, BCP, Arizona: Assign a portion of Mohave County's Colorado River water entitlement to the Arizona Game and Fish Commission.

Completed contract action:

15. Jessen Family Limited Partnership (now JRJ Partners, LLC), BCP, Arizona: Contract for delivery of 1,080 acre-feet of Colorado River water for agricultural purposes. Contract was executed on September 27, 2007.

Upper Colorado Region: Bureau of Reclamation, 125 South State Street, Room 6107, Salt Lake City, Utah 84138-1102, telephone 801-524-3864.

New contract actions:

1.(f) Ward Creek LLC, Aspinall Storage Unit, CRSP: Ward Creek LLC has requested a 40-year water service contract for 1 acre-foot of M&I water out of the Blue Mesa reservoir, which requires Ward Creek LLC to present a Plan of Augmentation to the Division 4 Water Court.

36. Cottonwood Creek Consolidated Irrigation Company, Emery County Project, Utah: Warren Act contract for carriage of up to 5,600 acre-feet of nonproject water through Cottonwood Creek-Huntington Canal.

37. Albuquerque Bernalillo County Water Utility Authority and Reclamation, San Juan-Chama Project, New Mexico: Contract to store up to 50,000 acre-feet of project water in Elephant Butte Reservoir. The proposed contract would have a 40-year maximum term and would replace existing contract No. 3-CS-53-01510 which expires on January 26, 2008. The Act of December 29, 1981, Public Law 97-140, 95 Stat. 1717 provides authority to enter into this contract.

Modified contract action:

1.(e) Old Castle SW Group dba United Companies, Aspinall Storage Unit, CRSP: United Companies has requested a 40-year water service contract for 5 acre-feet of M&I water out of Blue Mesa reservoir, which requires United Companies to present a Plan of Augmentation to the Division 4 Water Court.

Discontinued contract actions:

22. Weber River Water Users Association, Weber River Project, Utah: Contract providing for the association to repay to the United States 15 percent of the cost of SOD modifications at Echo Dam.

30. Weber Basin Water Conservancy District, Weber Basin Project, Utah: Contract providing for the District to repay the United States 15 percent of the cost of SOD modifications to the foundation of Arthur V. Watkins Dam.

Completed contract actions:

1.(d) John and Joan Holton, Aspinall Storage Unit, CRSP: Mr. and Mrs. Holton have requested a 40-year water service contract for 1 acre-foot of M&I water out of Blue Mesa reservoir, which requires Mr. and Mrs. Holton to present a Plan of Augmentation to the Division 4 Water Court. Contract was executed on July 17, 2007.

28. North Fork Water Conservancy District and Ragged Mountain Water Users Association, Paonia Project, Colorado: North Fork and Ragged Mountain have requested a contract for supplemental water from the Paonia Project. Their contract expired on December 31, 2005, and the amended contract was executed on January 27, 2006. There is a need to amend this contract to include reference to the M&I contract waiting to be executed. Contract was executed on May 21, 2007.

33. Uintah Water Conservancy District, Jensen Unit, Central Utah Project, Utah: Temporary water service contract for 2,520 acre-feet of unsubscribed Jensen Unit M&I water. Contract was executed on July 23, 2007.

34. Weber Basin Water Conservancy District, Weber Basin Project, Utah: Contract providing for the District to repay to the United States 15 percent of the cost of Phase I SOD modifications to Arthur V. Watkins Dam. Contract was executed in September 2007.

Great Plains Region: Bureau of Reclamation, PO Box 36900, Federal Building, 316 North 26th Street, Billings, Montana 59101, telephone 406-247-7752.

New contract action:

57. Big Horn Canal ID, Boysen Unit, P-SMBP, Wyoming: Big Horn Canal ID has requested a renewal of their long-term water service contract.

Modified contract actions:

12. Savage ID, P-SMBP, Montana: The district is currently seeking title transfer. The contract is subject to renewal pending outcome of the title transfer process. The existing interim contract is due to expire in May 2008. Preparing to renew long-term contract upon request by the Savage ID.

27. LeClair-Riverton ID, Boysen Unit, P-SMBP, Wyoming: Contract renewal of long-term water service contract.

56. Turtle Lake ID, Garrison Diversion Unit, North Dakota: Turtle Lake ID has requested a water service contract under the Dakota Water Resources Act of 2000 as part of the Garrison Diversion Unit.

Discontinued contract action:

50. Twin Lakes Reservoir and Canal Company, Fryingpan-Arkansas Project, Colorado: Consideration of a request for a long-term contract for the use of excess capacity in the Fryingpan-Arkansas Project.

Completed contract actions:

5. City of Rapid City, Rapid Valley Unit, P-SMBP, South Dakota: Contract renewal for storage capacity in Pactola Reservoir. A temporary (1 year not to exceed 10,000 acre-feet) water service contract has been executed with the City of Rapid City, Rapid Valley Unit, for use of water from Pactola Reservoir. A long-term storage contract for 49,000 acre-feet has been negotiated with the City, and a final draft of the contract has been transmitted to the City for approval by their City Council. The contract was executed July 31, 2007.

6. Mid-Dakota Rural Water System, Inc., South Dakota: Pursuant to the Reclamation Projects Authorization and Adjustment Act of 1992, the Secretary of the Interior is authorized to make grants and loans to Mid-Dakota Rural Water System, Inc., a non-profit corporation for the planning and construction of a rural water supply system. Construction of the rural water supply system was completed in September 2006. The contract was amended on August 31, 2007, to convert payments from monthly to annually.

10. Fort Clark ID, P-SMBP, North Dakota: Negotiation of water service contract to continue delivery of project water to the district. The contract was executed on July 19, 2007.

17. Fryingpan-Arkansas Project, Colorado: Consideration of requests for long-term contracts for the use of excess capacity in the Fryingpan-Arkansas Project from the Southeastern Colorado Water Conservancy District, the City of Aurora, and the Colorado Springs Utilities. The contract with the City of Aurora was executed on September 12, 2007.

Dated: October 24, 2007.
Roseann Gonzales,
Director, Office of Program and Policy Services, Denver Office.

[FR Doc. E7-23230 Filed 11-29-07; 8:45 am]

BILLING CODE 4310-MN-P